DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 20, 2003.

Interested persons are invited to submit written comments regarding the subject matter of the investigations to the Director, Division of Trade Adjustment Assistance, at the address shown below, not later than October 2003.

The petitions filed in this case are available for inspection at the Office of the Director, Division of Trade Adjustment Assistant, Employment and Training Administration, U.S. Department of Labor, Room C-5311, 200 Constitution Avenue, NW., Washington, DC 20210.

Signed at Washington, DC, this 12th day of September 2003.
Timothy Sullivan,
Director, Division of Trade Adjustment Assistance.

Appendix
[Petitions instituted between 08/25/2003 and 08/29/2003]
TA-W | Subject firm (petitioners) | Location | Date of institution | Date of petition
52,670 | Joy Mining Machinery (Wkrs) | Abingdon, VA | 08/26/2003 | 08/21/2003
52,671 | Siebel Systems (CA | Emeryville, CA | 08/25/2003 | 08/19/2003
52,672 | Intel Corporation (Comp) | Hillsboro, CA | 08/25/2003 | 08/22/2003
52,673 | Belden Wire and Cable (Comp) | Richmond, IN | 08/25/2003 | 08/22/2003
52,674 | ADM Milling Company (MN) | Minneapolis, MN | 08/25/2003 | 08/22/2003
52,675 | Bills/Bonus Dollar Store (Wkrs) | Adamsville, TN | 08/25/2003 | 08/19/2003
52,676A | Defender Services (Wkrs) | Salisbury, NC | 08/25/2003 | 08/22/2003
52,676B | Defender Services (Wkrs) | Concord, NC | 08/25/2003 | 08/22/2003
52,676C | Defender Services (Wkrs) | Eden, NC | 08/25/2003 | 08/22/2003
52,676 | Defender Services (Wkrs) | Kannapolis, NC | 08/25/2003 | 08/22/2003
52,677 | Westinghouse Electric Company (Wkrs) | Monroeville, PA | 08/25/2003 | 08/23/2003
52,678 | Cooper Industries (Comp) | Montebello, CA | 08/25/2003 | 08/15/2003
52,679 | GN Netcom (Comp) | Nashua, NH | 08/25/2003 | 08/25/2003
52,680 | Vaughan Furniture Company (Comp) | Johnson City, TN | 08/26/2003 | 08/21/2003
52,681 | Reuther Mold and Mfg. (Wkrs) | Cuyahoga Falls, OH | 08/26/2003 | 08/15/2003
52,682 | Continental Teves (Comp) | Asheville, NC | 08/26/2003 | 08/18/2003
52,683 | Thomasville Furniture Industries, Inc. (Comp) | Thomasville, NC | 08/26/2003 | 08/25/2003
52,684 | PSC Metals, Inc. (Comp) | Cleveland, OH | 8/26/2003 | 8/19/2003
52,685 | Mead Westvaco (Comp) | Greenville, GA | 08/26/2003 | 08/21/2003
52,686 | Avi Corporation (Comp) | Queensbury, NY | 08/26/2003 | 08/14/2003
52,687 | Renfro Corporation (Comp) | Pulaski, VA | 08/27/2003 | 08/15/2003
52,688 | Howes Leather Corporation (Comp) | Curwensville, PA | 08/27/2003 | 08/26/2003
52,689 | Alkahn Labels, (Comp) | Cochran, GA | 08/27/2003 | 08/15/2003
52,690 | Zawick Manufacturing (UNITE) | Hellertown, PA | 08/27/2003 | 08/19/2003
52,691 | American Bag Corp. (Comp) | Winfield, TN | 08/27/2003 | 08/26/2003
52,692 | Lego Systems, Inc. (Wkrs) | Enfield, CT | 08/27/2003 | 08/15/2003
52,693 | CTS Corporation (UAW) | Elkhart, IN | 08/27/2003 | 08/21/2003
52,694 | Apparel Ventures (Comp) | South Gate, CA | 08/27/2003 | 08/25/2003
52,695 | Agere Systems (Wkrs) | Tewindale, CA | 08/27/2003 | 08/18/2003
52,696 | Hilti (Wkrs) | Tulsa, OK | 08/28/2003 | 08/26/2003
52,697 | Pryor Fish Camp (Comp) | Kodiak, AK | 08/28/2003 | 08/20/2003
52,698 | Rohm and Haas Company (Wkrs) | Philadelphia, PA | 08/28/2003 | 08/28/2003
52,699 | Delphi Automotive Systems (IUE) | Moraine, OH | 08/28/2003 | 08/11/2003
52,700 | Circuit Science (MN) | Plymouth, MN | 08/28/2003 | 08/27/2003
52,701 | DB Systems, Inc. (WA) | Redmond, WA | 08/28/2003 | 08/27/2003
52,702 | Atlas Castings and Technology (Wkrs) | Tacoma, WA | 08/29/2003 | 08/25/2003
52,703 | McMurray Fabrics Jamesville, Inc. (Comp) | Jamesville, NC | 08/29/2003 | 08/18/2003
52,704 | Brindar (Comp) | Gresham, OR | 08/29/2003 | 08/26/2003
52,705 | Trojan Steel Co. (Wkrs) | Charleston, WV | 08/29/2003 | 08/22/2003
52,706 | Compaq Computer Corp. (CO) | Denver, CO | 08/29/2003 | 08/27/2003
52,707 | Parker Hannifin Co. (Wkrs) | Green Camp, OH | 08/29/2003 | 08/27/2003

[FR Doc. 03-25706 Filed 10-9-03; 8:45 am]

BILLING CODE 4510-30-M